FEDERAL MARITIME COMMISSION

Ocean Transportation Intermediary License; Rescission of Order of Revocation

Notice is hereby given that the Order revoking the following license is being rescinded by the Federal Maritime Commission pursuant to section 19 of the Shipping Act of 1984 (46 U.S.C. chapter 409) and the regulations of the Commission pertaining to the licensing of Ocean Transportation Intermediaries, 46 CFR, part 515.

License Number: 022541NF.

Name: Oceanair Forwarding, Inc.

Address: 11232 St. Johns Industrial Parkway North, Suite 6, Jacksonville, FL 32246.

Order Published: FR: 7/25/11 (Volume 76, No. 142, Pg. 44332).

Sandra L. Kusumoto.
Director, Bureau of Certification and Licensing.

[FR Doc. 2011-23057 Filed 9-8-11; 8:45 am]

BILLING CODE 6730-01-P